ENVIRONMENTAL PROTECTION AGENCY

[FRL-9226-9]

Cross-Media Electronic Reporting Rule State Authorized Program Revision Approval: State of Hawaii

AGENCY: Environmental Protection Agency (EPA).

ACTION: Notice.

SUMMARY: This notice announces EPA's approval, under regulations for Cross-Media Electronic Reporting, of the State of Hawaii's request to revise certain of its EPA-authorized programs to allow electronic reporting.

DATES: EPA's approval is effective November 15, 2010.

FOR FURTHER INFORMATION CONTACT: Evi Huffer, U.S. Environmental Protection Agency, Office of Environmental Information, Mail Stop 2823T, 1200 Pennsylvania Avenue, NW., Washington, DC 20460, (202) 566-1697, huffer.evi@epa.gov, U.S. Environmental Protection Agency, Office of Environmental Information, Mail Stop 2823T, 1200 Pennsylvania Avenue, NW., Washington, DC 20460.

SUPPLEMENTARY INFORMATION: On October 13, 2005, the final Cross-Media Electronic Reporting Rule (CROMERR) was published in the Federal Register (70 FR 59848) and codified as part 3 of title 40 of the CFR. CROMERR establishes electronic reporting as an acceptable regulatory alternative to paper reporting and establishes requirements to assure that electronic documents are as legally dependable as their paper counterparts. Under subpart D of CROMERR, state, tribe or local government agencies that receive, or wish to begin receiving, electronic reports under their EPA-authorized programs must apply to EPA for a revision or modification of those programs and obtain EPA approval. Subpart D also provides standards for such approvals based on consideration of the electronic document receiving systems that the state, tribe, or local government will use to implement the electronic reporting. Additionally, in § 3.1000(b) through (e) of 40 CFR part 3, subpart D provides special procedures for program revisions and modifications to allow electronic reporting, to be used at the option of the state, tribe or local government in place of procedures available under existing program-specific authorization regulations. An application submitted under the subpart D procedures must show that the state, tribe or local government has sufficient legal authority to implement the electronic reporting components of the programs covered by the application and will use electronic document receiving systems that meet the applicable subpart D requirements.

On February 16, 2010, the State of Hawaii Department of Health (HIDOH) submitted an application for its Net Discharge Monitoring Report (NetDMR) electronic document receiving system for revision/modification of its 40 CFR part 123—National Pollutant Discharge Elimination System (NPDES) State Program Requirements and Part 403—General Pretreatment Regulations For Existing And New Sources Of Pollution EPA-authorized programs for electronic reporting of Discharge Monitoring Report (DMR) information under 40 CFR 122.41(I)(4)(i) and 403.12(d)&(e)&(h).

EPA has reviewed HIDOH's request to revise its EPA-authorized programs and, based on this review, EPA has determined that the application meets the standards for approval of authorized program revisions/modifications set out in 40 CFR part 3, subpart D. In accordance with 40 CFR 3.1000(d), this notice of EPA's decision to approve Hawaii's request for revision to its 40 CFR part 123—NPDES State Program Requirements and part 403—General Pretreatment Regulations For Existing And New Sources Of Pollution authorized programs for electronic reporting of discharge monitoring report information is being published in the Federal Register.

HIDOH was notified of EPA's determination to approve its application with respect to the authorized programs listed above.

Dated: November 8, 2010.
Andrew T. Battin,
Acting Director, Office of Information Collection.

[FR Doc. 2010-28651 Filed 11-12-10; 8:45 am]

BILLING CODE 6560-50-P